SMALL BUSINESS ADMINISTRATION

[Declaration of Disaster #3290]

State of Montana; Amendment #2

In accordance with a notice received from the Federal Emergency Management Agency, dated September 26, 2000, the above-numbered Declaration is hereby amended to establish the incident period for this disaster as beginning on July 13, 2000 and continuing through September 25, 2000.

All other information remains the same, i.e., the deadline for filing applications for physical damage is October 29, 2000 and for economic injury the deadline is May 30, 2001.

(Catalog of Federal Domestic Assistance Program Nos. 59002 and 59008)

Dated: October 6, 2000.
Allan I. Hoberman,
Acting Associate Administrator for Disaster Assistance.

[FR Doc. 00-27633 Filed 10-26-00; 8:45 am]

BILLING CODE 8025-01-P